NATIONAL AERONAUTICS AND SPACE ADMINISTRATION

[Notice 03-023]

Government-Owned Inventions, Available for Licensing

ACTION: Notice of availability of inventions for licensing.

SUMMARY: The inventions listed below are assigned to the National Aeronautics and Space Administration, have been filed in the United States Patent and Trademark Office, and are available for licensing.

DATES: February 26, 2003.

FOR FURTHER INFORMATION CONTACT: James McGroary, Patent Counsel, Marshall Space Flight Center, Code LS01, Huntsville, AL 35812; telephone (256) 544-0013; fax (256) 544-0258.

NASA Case No. MFS-31584-1-CIP: Hypergolic Ignitor;

NASA Case No. MFS-31636-1: Meteoroid Damage Detection And Location System For Manned Spacecraft;

NASA Case No. MFS-31751-1: Solar Powered Automobile Interior Climate Control System.

Dated: February 19, 2003.
Robert M. Stephens,
Deputy General Counsel.

[FR Doc. 03-4436 Filed 2-25-03; 8:45 am]

BILLING CODE 7510-01-P